GENERAL SERVICES ADMINISTRATION

[OMB Control No. 3090-00XX; Docket No. 2015-0001; Sequence No. 6]

Information Collection; OMB Control No. 3090-00XX; Wireless Telecommunications Industry Application

AGENCY: Public Buildings Service, General Services Administration (GSA).

ACTION: Notice of request for public comments regarding a new Office of Management and Budget (OMB) information clearance.

SUMMARY: Under the provisions of the Paperwork Reduction Act of 1995 (44 U.S.C. chapter 35), GSA will be submitting to OMB a request to review and approve a new Information Collection Request (ICR) regarding the Wireless Telecommunications Industry Application. The ICR also requests categorizing this form as a common form, meaning that GSA will only request approval for its own use of the form, rather than aggregating the burden estimate across all Federal Agencies using this form.

DATES: Submit comments on or before May 11, 2015.

ADDRESSES: Submit comments identified by Information Collection 3090-00XX by any of the following methods:

• Regulations.gov: http://www.regulations.gov.

Submit comments via the Federal eRulemaking portal by searching for Information Collection 3090-00XX. Select the link “Comment Now” that corresponds with “Information Collection 3090-00xx; Wireless Telecommunications Industry Application.” Follow the instructions provided on the screen. Please include your name, company name (if any), and “Information Collection 3090-00XX; Wireless Telecommunications Industry Application” on your attached document.

• Fax: 202-501-4067.

• Mail: General Services Administration, Regulatory Secretariat (MVCB), 1800 F Street NW., Washington, DC 20405. ATTN: Ms. Flowers/IC 3090-00XX.

Instructions: Please submit comments only and cite Information Collection 3090-00XX; Wireless Telecommunications Industry Application, in all correspondence related to this collection. All comments received will be posted without change to http://www.regulations.gov, including any personal and business confidential information provided.

FOR FURTHER INFORMATION CONTACT: Ms. Mary Ann Hillier, National Outlease Program Manager, PBS, GSA, at telephone 202-208-6139, or via email to maryann.hillier@gsa.gov.

SUPPLEMENTARY INFORMATION:

A. Purpose

The purpose of this application is to streamline the business information collection process to accelerate the approval process between the Federal Government and a commercial wireless telecommunications industry company wishing to install a wireless antenna on a Federal asset for the expansion of the company's wireless network. Federal executive agencies with landholding authority, such as Veterans Affairs, Department of Interior, and Department of Homeland Security, will likely use this form as well.

B. Annual Reporting Burden

Respondents: 20.

Responses per Respondent: 1.

Total Response Hours: 20.

Hours per Response: 1.

Total Burden Hours: 20.

C. Public Comments

Public comments are particularly invited on: Whether this collection of information is necessary and whether it will have practical utility; whether our estimate of the public burden of this collection of information is accurate and based on valid assumptions and methodology; ways to enhance the quality, utility and clarity of the information to be collected; and ways in which we can minimize the burden of the collection of information on those who are to respond through the use of appropriate technological collection techniques or other forms of information technology.

Obtaining Copies of Proposals: Requesters may obtain a copy of the information collection documents from the General Services Administration, Regulatory Secretariat (MVCB), 1800 F Street NW., Room 4041, Washington, DC 20405, telephone 202-501-4755. Please cite OMB Control No. 3090-00XX, Wireless Telecommunications Industry Application, in all correspondence.

Dated: March 4, 2015.
Sonny Hashmi,
Chief Information Officer, U.S. General Services Administration.

[FR Doc. 2015-05678 Filed 3-11-15; 8:45 am]

BILLING CODE 6820-14-P